DEPARTMENT OF TRANSPORTATION

Federal Motor Carrier Safety Administration

[Docket No. FMCSA-2000-7316]

Reports, Forms and Recordkeeping Requirements Agency Information Collection Activity Under OMB Review

AGENCY: Federal Motor Carrier Safety Administration (FMCSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period soliciting comments on the following information collection was published on May 23, 2000 [65 FR 33399].

DATES: Comments must be submitted on or before September 14, 2000.

ADDRESSES: Signed written comments should refer to the docket number that appears at the top of this document and must be sent to the Office of Information and Regulatory Affairs, Office of Management and Budget, 725 17th Street, NW., Washington, DC 20503, Attention: DOT Desk Officer. You are asked to comment on whether the proposed collection of information is necessary for the FMCSA to meet its goal of reducing truck crashes, including whether the information is useful to this goal; the accuracy of the estimate of the burden of the proposed information collection; ways to enhance the quality, utility and clarity of the information to be collected; and ways to minimize the burden of the collection of information on respondents, including the use of automated collection techniques or other forms of information technology. OMB wants to receive comments within 30 days of publication of this Notice in order to act on the ICR quickly.

FOR FURTHER INFORMATION CONTACT: Ms. Sandra Zywokarte, (202) 366-2987, Office of Bus and Truck Standards and Operations, Federal Motor Carrier Safety Administration, 400 7th Street, SW., Washington, DC 20590-0001. Office hours are from 7:30 a.m. to 4:00 p.m., e.t., Monday through Friday, except Federal holidays.

SUPPLEMENTARY INFORMATION: Title: Medical Qualification Requirements.

OMB Number: 2126-0006.

Type of Request: Renewal of currently-approved information collection.

Abstract: The FMCSA is the Federal government agency that is authorized to require that drivers of commercial motor vehicles (CMVs) meet certain physical and mental standards to assure the highest level of safety possible on our Nation's highways. This ICR includes several components: (1) A medical examination and certificate to be completed by a licensed medical examiner; (2) the submission of an application to the FMCSA for the agency to resolve conflicts of medical evaluation between medical examiners; (3) a driver qualification file for motor carriers to include the medical certificate; (4) a driver qualification file for motor carriers of migrant workers to include a doctor's certificate for every driver employed or used by them; (5) a driver qualification file to include a skill performance evaluation certificate (formerly a limb disability waiver) issued to a driver; and (6) information collection requirements for granting exemptions from the vision requirements in the Federal Motor Carrier Safety Regulations (FMCSRs).

Respondents: Medical examiners, medical specialists, physicians, licensed doctors of medicine or osteopathy, motor carriers, and CMV drivers.

Estimated Burden Per Record: Twenty minutes to complete and document the medical examination; 1 minute to complete the medical examiner's certificate and 1 minute to copy and file the medical examiner's certificate; 1 hour to prepare an application for resolution of medical conflict; 15 minutes to complete an application for a skilled performance evaluation (SPE) certificate due to physical defects or impairments; 2 minutes to complete an application for a renewal of an SPE certificate; and 1 minute to copy and file the SPE certificate; 60 minutes to complete an application for a vision exemption with required supporting documents; and 1 minute for a doctor of medicine or osteopathy to complete a doctor's certificate for a driver of migrant workers.

Estimated annual responses: 3,218,215 medical examinations and medical certificates; 3 applications for resolution of conflicts of medical evaluation; 300 applications for new SPE certificates; 800 applications for renewal of SPE certificates; 600 applications for vision exemptions; and 100 medical certificates for drivers of migrant workers.

Total Estimated Annual Burden: Based on an estimated 6,436,000 CMV drivers, the total estimated annual burden for this information collection is 1,180,792 hours. These estimated burden hours have increased by approximately 721,700 since the last OMB approval. This is primarily because of an increased estimate by the FMCSA in the amount of time to complete and document the medical examination that is required of CMV drivers every two years.

Issued on: August 8, 2000.
Julie Anna Cirillo,
Acting Assistant Administrator, Federal Motor Carrier Safety Administration.

[FR Doc. 00-20668 Filed 8-14-00; 8:45 am]

BILLING CODE 4910-22-P